DEPARTMENT OF ENERGY

Federal Energy Regulatory Commission

[Docket No. RP00-239-001]

Pine Needle LNG Company, LLC; Notice of Compliance Filing

May 17, 2000.

Take notice that on May 11, 2000 Pine Needle LNG Company, LLC (Pine Needle) tendered for filing information fully supporting the increase in its electric power cost rate. Pine Needle asserts that the purpose of this filing is to comply with the Commission's letter order dated April 26, 2000, in Docket No. RP00-239-000.

Any person desiring to protest this filling should file a protest with Federal Energy Regulatory Commission, 888 First Street NE, Washington, DC 20426, in accordance with section 385.211 of the Commission's Rules and Regulations. all such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://ww.ferc.fed.us/online/rims.htm (call 202-208-2222 for assistance).

Linwood A. Watson, Jr.,
Acting Secretary.

[FR Doc. 00-12864 Filed 5-22-00; 8:45 am]

BILLING CODE 6717-01-M